INTERNATIONAL TRADE COMMISSION

[USITC SE-03-002]

Sunshine Act Meeting

AGENCY HOLDING THE MEETING: International Trade Commission.

TIME AND DATE: February 5, 2003, at 9:30 a.m.

PLACE: Room 101, 500 E Street, SW., Washington, DC 20436. Telephone: (202) 205-2000.

STATUS: Open to the public.

Matters to be Considered: 1. Agenda for future meetings: none.

2. Minutes.

3. Ratification list.

4. Inv. No. TA-421-2 (Remedy)(Certain Steel Wire Garment Hangers from China)—briefing and vote. (The Commission is currently scheduled to transmit its proposals on remedy to the President and the United States Trade Representative on February 18, 2003.)

5. Outstanding action jackets: none.

In accordance with Commission policy, subject matter listed above, not disposed of at the scheduled meeting, may be carried over to the agenda of the following meeting.

By order of the Commission.
Issued: January 27, 2003.
Marilyn R. Abbott,
Secretary to the Commission.

[FR Doc. 03-2259 Filed 1-27-03; 4:52 pm]

BILLING CODE 7020-02-P